DEPARTMENT OF HEALTH AND HUMAN SERVICES

National Institutes of Health

End of the Call for Participation for Computational Photography Project for Pill Identification (C3PI)

AGENCY: National Institutes of Health, HHS.

ACTION: Notice.

SUMMARY: With the successful completion of the 2016 Pill Image Recognition Challenge, the National Library of Medicine (NLM) gratefully acknowledges the pharmaceutical manufacturers, re-packagers, wholesalers, and retail and institutional pharmacies that submitted prescription drug products for imaging as part of its Computational Photography Project for Pill Identification (C3PI). Effective immediately, the NLM is concluding its collection of digital imagery of C3PI oral solid dosage formulations (OSDFs), discontinuing the program, and is no longer accepting prescription drug products for photography.

FOR FURTHER INFORMATION CONTACT: Any question regarding C3PI and its discontinuation should be sent to: Dr. Terry Yoo at splimage@nlm.nih.gov, 301-827-4976.

SUPPLEMENTARY INFORMATION: C3PI developed information infrastructure and computational tools for identifying pills from digital photographs and associated data. C3PI issued a Pill Image Recognition (PIR) computer vision challenge in January 2016, seeking software solutions for the content-based information retrieval of drug information from images submitted as queries. NLM quantitatively evaluated the resulting entries and awarded prizes to the winners. The findings from the PIR challenge were published in October 2016. See https://www.ncbi.nlm.nih.gov/pmc/articles/PMC5973812/.

NLM is ending the project. No future prescription drug products will be accepted. Digital images will not be obtained of drug products that may have been submitted but not photographed as of the termination of this project.

Previous NLM Imaging Initiative Superseded: This notice supersedes all prior instructions provided by 79 FR 56381-56382 https://www.federalregister.gov/documents/2014/09/19/2014-22308/call-for-participation-for-computational-photography-project-for-pill-identification-c3pi, published on September 19, 2014.

Dated: June 1, 2018.
Patricia Brennan,
Director, National Library of Medicine, National Institutes of Health.

[FR Doc. 2018-12273 Filed 6-6-18; 8:45 am]

BILLING CODE 4140-01-P